DEPARTMENT OF COMMERCE

National Oceanic and Atmospheric Administration

50 CFR Part 648

[Docket No. 011109274-1301-02; I.D. 120602A]

Summer Flounder Fishery

AGENCY: National Marine Fisheries Service (NMFS), National Oceanic and Atmospheric Administration (NOAA), Commerce.

ACTION: Commercial quota transfer; commercial fishery reopening.

SUMMARY: NMFS announces that the State of North Carolina is transferring 20,000 lb (9,072 kg) of commercial summer flounder quota to Connecticut from its 2002 quota. By this action, NMFS adjusts the quotas and announces the revised commercial quota for each state involved. NMFS also announces that the summer flounder commercial fishery in the exclusive economic zone for Connecticut is reopened, effective December 6, 2002. Vessels issued a commercial Federal fisheries permit for the summer flounder fishery may land summer flounder in Connecticut for the remainder of calendar year 2002, unless Connecticut harvests its commercial quota before the end of the calendar year. Regulations governing the summer flounder fishery require the publication of this notification to advise Connecticut that the fishery has reopened and to advise vessel permit holders and dealer permit holders that commercial quota is available for landing summer flounder in Connecticut.

DATES: Effective December 6, 2002, through December 31, 2002.

FOR FURTHER INFORMATION CONTACT: Jason Blackburn, Fishery Management Specialist, (978) 281-9326.

SUPPLEMENTARY INFORMATION: Regulations governing the summer flounder fishery are found at 50 CFR part 648. The regulations require annual specification of a commercial quota that is apportioned among the coastal states from North Carolina through Maine. The process to set the annual commercial quota and the percent allocated to each state are described in § 648.100.

After taking into account any overages of state quotas that occurred in 2001, the total commercial quota for summer flounder for the 2002 calendar year was set equal to 14,456,636 lb (6,557,420 kg), with a quota of 329,044 lb (149,252 kg) for Connecticut and a quota of 4,001,133 lb (1,814,883 kg) for North Carolina (66 FR 66350; December 26, 2001).

The final rule implementing Amendment 5 to the FMP that was published on December 17, 1993 (58 FR 65936), provided the mechanism for summer flounder quota to be transferred from one state to another. Two or more states, under mutual agreement and with the concurrence of the Administrator, Northeast Region, NMFS, (Regional Administrator) can transfer or combine summer flounder commercial quota under § 648.100(d). The Regional Administrator is required to consider the criteria set forth in § 648.100(d)(3) in the evaluation of requests for quota transfers or combinations.

North Carolina has agreed to transfer 20,000 lb (9,072 kg) of its 2002 commercial quota to Connecticut. The Regional Administrator has determined that the criteria set forth in § 648.100(d)(3) have been met. The revised quotas for calendar year 2002 are: Connecticut, 349,044 lb (158,324 kg); and North Carolina, 3,981,133 lb (1,805,812 kg).

NMFS issued a notification in the Federal Register on November 25, 2002 (67 FR 70556), announcing that the summer flounder commercial quota available to Connecticut had been harvested. The Regional Administrator has determined, based upon dealer reports and upon other available information, that North Carolina will not attain its quota for 2002 and, based on the 20,000-lb (9,072-kg) transfer of commercial summer flounder quota to Connecticut, that the Connecticut commercial summer flounder fishery in the exclusive economic zone will reopen effective 0001 hours, December 6, 2002 through December 31, 2002. Therefore, vessels issued a commercial Federal fisheries permit for the summer flounder fishery may land summer flounder in Connecticut for the remainder of calendar year 2002, unless closed due to Connecticut harvesting its commercial quota before the end of the calendar year. Such closure would be announced through notification in the Federal Register. Effective December 6, 2002 through December 31, 2002, federally permitted dealers are also advised that they may purchase summer flounder from federally permitted vessels that land in Connecticut for the remainder of the calendar year.

Classification

This action is taken under 50 CFR part 648 and is exempt from review under Executive Order 12866.

Authority: 16 U.S.C. 1801 et seq.

Dated: December 6, 2002.
John H. Dunnigan,
Director, Office of Sustainable Fisheries, National Marine Fisheries Service.

[FR Doc. 02-31252 Filed 12-6-02; 4:16 pm]

BILLING CODE 3510-22-S